DEPARTMENT OF ENERGY

Federal Energy Regulatory Commission

Combined Notice of Filings #1

Take notice that the Commission received the following electric corporate filings:

Docket Numbers: EC15-66-000.

Applicants: Osage Wind, LLC.

Description: Application for Authorization Under Section 203 of the Federal Power Act, Request for Expedited Consideration and Confidential Treatment of Osage Wind, LLC.

Filed Date: 1/29/15.

Accession Number: 20150129-5044.

Comments Due: 5 p.m. ET 2/19/15.

Take notice that the Commission received the following electric rate filings:

Docket Numbers: ER12-1308-004.

Applicants: Palouse Wind, LLC.

Description: Notice of Non-Material Change in Status of Palouse Wind, LLC.

Filed Date: 1/28/15.

Accession Number: 20150128-5250.

Comments Due: 5 p.m. ET 2/18/15.

Docket Numbers: ER12-1329-003.

Applicants: Wildcat Wind Farm I, LLC.

Description: Notice of Change in Status of Wildcat Wind Farm I, LLC.

Filed Date: 1/28/15.

Accession Number: 20150128-5132.

Comments Due: 5 p.m. ET 2/18/15.

Docket Numbers: ER12-2178-010, ER14-2145-001; ER14-2144-001; ER14-1524-002; ER13-1536-004; ER12-2528-009; ER12-2311-009; ER12-2201-009; ER12-1829-009; ER12-1223-014; ER11-3989-014; ER11-2056-015; ER11-2016-016; ER11-2014-018; ER11-2013-018; ER11-2011-017; ER11-2010-018; ER11-2009-017; ER11-2007-016; ER11-2005-018; ER10-3308-020; ER10-3027-002; ER10-3025-004; ER10-2192-021; ER10-2184-021; ER10-2183-018; ER10-2182-025; ER10-2181-025; ER10-2180-021; ER10-2179-025; ER10-2178-021; ER10-2172-021; ER10-1143-017; ER10-1081-017; ER10-1080-017; ER10-1078-017; ER10-1048-018; ER10-1020-017.

Applicants: Exelon Generation Company, LLC, AV Solar Ranch 1, LLC, Baltimore Gas and Electric Company, Beebe 1B Renewable Energy, LLC, Beebe Renewable Energy, LLC, Calvert Cliffs Nuclear Power Plant LLC, Cassia Gulch Wind Park, LLC, CER Generation, LLC, CER Generation II, LLC, Commonwealth Edison Company, Constellation Energy Commodities Group Maine. LLC, Constellation Mystic Power, LLC, AES NewEnergy, Inc., Constellation Power Source Generation, LLC, Cow Branch Wind Power LLC, CR Clearing, LLC, Criterion Power Partners, LLC, Exelon Framingham, LLC, Exelon New Boston, LLC, Exelon West Medway, LLC, Exelon Wind 4, LLC, Exelon Wyman, LLC, Fourmile Wind Energy, LLC, Handsome Lake Energy, LLC, Harvest WindFarm, LLC, Harvest II Windfarm, LLC, High Mesa Energy, LLC, Integrys Energy Services, Inc., Integrys Energy Services of New York, Inc, Michigan Wind 1, LLC, Michigan Wind 2, LLC, Nine Mile Point Nuclear Station, LLC, PECO Energy Company, R.E. Ginna Nuclear Power Plant, LLC, Shooting Star Wind Project, LLC, Tuana Springs Energy, LLC, Wildcat Wind, LLC, Wind Capital Holdings, LLC.

Description: Revised Asset Appendix for November 24, 2014 Notice of Non-Material Change in Status of the Integrys and Exelon MBR Entities.

Filed Date: 1/12/15.

Accession Number: 20150112-5250.

Comments Due: 5 p.m. ET 2/2/15.

Docket Numbers: ER13-34-001; ER10-2481-002; ER13-33-002.

Applicants: Ingenco Holdings, LLC, Ingenco Wholesale Power, L.L.C., Collegiate Clean Energy, LLC.

Description: Notice of non-material change in status of Ingenco Holdings, LLC, et. al.

Filed Date: 1/28/15.

Accession Number: 20150128-5137.

Comments Due: 5 p.m. ET 2/18/15.

Docket Numbers: ER13-395-002.

Applicants: Safe Harbor Water Power Corporation.

Description: Compliance filing per 35.37: Safe Harbor Water Power Corp. Triennial Supplement to be effective 7/1/2014.

Filed Date: 1/29/15.

Accession Number: 20150129-5024.

Comments Due: 5 p.m. ET 2/19/15.

Docket Numbers: ER15-13-002.

Applicants: Transource Wisconsin, LLC.

Description: Compliance filing per 35: Compliance filing for Transource Wisconsin to be effective 12/1/2014.

Filed Date: 1/28/15.

Accession Number: 20150128-5231.

Comments Due: 5 p.m. ET 2/18/15.

Docket Numbers: ER15-237-002.

Applicants: Public Service Company of Colorado.

Description: Tariff Amendment per 35.17(b): 2015-1-28_Joint Dispatch_Amend 2_Filing to be effective 1/1/2015.

Filed Date: 1/28/15.

Accession Number: 20150128-5217.

Comments Due: 5 p.m. ET 2/18/15.

Docket Numbers: ER15-497-001.

Applicants: Duke Energy Ohio, Inc.

Description: Tariff Amendment per 35.17(b): Correct Filing Code to be effective 11/29/2014.

Filed Date: 1/28/15.

Accession Number: 20150128-5211.

Comments Due: 5 p.m. ET 2/18/15.

Docket Numbers: ER15-794-001.

Applicants: Catalyst Paper Operations Inc.

Description: Tariff Amendment per 35.17(b): Amended MBR Tariff Application to be effective 12/31/9998.

Filed Date: 1/28/15.

Accession Number: 20150128-5150.

Comments Due: 5 p.m. ET 2/18/15.

Docket Numbers: ER15-918-000.

Applicants: Midcontinent Independent System Operator, Inc.

Description: § 205(d) rate filing per 35.13(a)(2)(iii): 2015-01-28 Attachment Y alignment with 2015-2016 Planning Year to be effective 3/30/2015.

Filed Date: 1/28/15.

Accession Number: 20150128-5178.

Comments Due: 5 p.m. ET 2/18/15.

Take notice that the Commission received the following land acquisition reports:

Docket Numbers: LA14-4-000.

Applicants: Alabama Electric Marketing, LLC, Astoria Generating Company, L.P., Big Sandy Peaker Plant, LLC, California Electric Marketing, LLC, Crete Energy Venture, LLC, CSOLAR IV South, LLC, CSOLAR IV West, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Management, LLC, Tenaska Power Services Co., Tenaska Virginia Partners, L.P., Texas Electric Marketing, LLC, TPF Generation Holdings, LLC, Wolf Hills Energy, LLC.

Description: Quarterly Land Acquisition Report of the Tenaska MBR Sellers.

Filed Date: 1/29/15.

Accession Number: 20150129-5093.

Comments Due: 5 p.m. ET 2/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2015.
Nathaniel J. Davis, Sr.,
Deputy Secretary.

[FR Doc. 2015-02628 Filed 2-9-15; 8:45 am]

BILLING CODE 6717-01-P